DEPARTMENT OF DEFENSE

Department of the Army, Corps of Engineers

Intent To Prepare a Draft and Final Environmental Impact Statement for the Herbert Hoover Dike Major Rehabilitation Project and Dam Safety Modification Study, Okeechobee, Glades, Hendry, Martin, and Palm Beach Counties

AGENCY: Department of the Army, U.S. Army Corps of Engineers, DOD.

ACTION: Notice of intent.

SUMMARY: The Jacksonville District, U.S. Army Corps of Engineers (Corps) intends to prepare a Draft Environmental Impact Statement (EIS) for the Herbert Hoover Dike (HHD) Major Rehabilitation Project and Dam Safety Modification Study. Herbert Hoover Dike is the 143 mile embankment surrounding Lake Okeechobee in south central Florida. A Dam Safety Modification Study has been initiated for the HHD and will be focused on a system wide risk reduction approach as required for safety modifications to dams. The purpose of the study is to identify risk reduction measures that can be implemented to reduce risks in the HHD system.

On July 8 2005, the Jacksonville District, U.S. Army Corps of Engineers (Corps) issued a Final Supplemental Environmental Impact Statement (FSEIS) and Record of Decision for the Major Rehabilitation actions proposed for Reach One of the HHD. Several additional EISs and Environmental Assessments (EAs) have been completed for Reach One of the HHD, including installation of a seepage cutoff wall. The EISs for Reach 1A, Reach 1B, 1C, and 1D, and Reaches 2 and 3 have been retracted by notice in the Federal Register on February 5, 2013 (78 FR 8118-8119). Most recently, an EA was completed in January 2012 evaluating impacts of an Alternative Rehabilitation Plan pilot test. The purpose of this pilot test, to be constructed in the southern portion of the HHD, is to seek lower cost solutions supporting the overall risk reduction strategy. Information gained from the pilot test will be used during the Dam Safety Modification Study.

ADDRESSES: U.S. Army Corps of Engineers, Planning Division, Environmental Branch, P.O. Box 4970, Jacksonville, FL 32232-0019.

FOR FURTHER INFORMATION CONTACT: Ms. Angela Dunn at (904) 232-2108 or email at Angela.E.Dunn@usace.army.mil.

SUPPLEMENTARY INFORMATION: Scoping: A scoping letter will be used to invite comments from Federal, state, and local agencies, affected Indian tribes, and other interested private organizations and individuals. A scoping meeting will be held February 26, 2013 from 6:30 to 8:30 p.m. at the John Boy Auditorium, 1200 South W.C. Owen Avenue, Clewiston, Florida and February 28, 2013 from 6:30 to 8:30 p.m. at the Okeechobee County Health Department Auditorium, 1728 Northwest 9th Avenue, Okeechobee, Florida.

Coordination and Public Involvement: The Corps will serve as the lead Federal agency in the preparation of the Draft EIS. The Corps intends to coordinate and/or consult with an interagency team of Federal, state, and local agencies as well as affected Indian Tribes during scoping and preparation of the Draft EIS. All alternative plans will be reviewed under provisions of appropriate laws and regulations, including but not limited to the Endangered Species Act, Fish and Wildlife Coordination Act, Clean Water Act, and National Historic Preservation Act. The Draft EIS is expected to be available for public review early summer 2014.

Dated: February 5, 2013.
Eric P. Summa,
Chief, Environmental Branch.

[FR Doc. 2013-03482 Filed 2-14-13; 8:45 am]

BILLING CODE 3720-58-P